DEPARTMENT OF COMMERCE

National Oceanic and Atmospheric Administration

RIN 0648-XD500

New England Fishery Management Council (NEFMC); Public Meeting

AGENCY: National Marine Fisheries Service (NMFS), National Oceanic and Atmospheric Administration (NOAA), Commerce.

ACTION: Notice of public meeting.

SUMMARY: The New England Fishery Management Council (Council) will hold a 3-day meeting to consider actions affecting New England fisheries in the exclusive economic zone (EEZ).

DATES: The meeting will be held on Tuesday, Wednesday and Thursday, September 30-October 2, 2014, and will start at 8:30 a.m., each day.

ADDRESSES: The meeting will be held at the Cape Codder Resort, 1225 Iyannough Road, Hyannis, MA 02601; telephone: (855) 861-4370; fax: (508) 771-6564. For online information about the venue check http://www.capecodderresort.com/.

Council address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, September 30, 2014

The Council meeting will begin with introductions, the formal swearing-in of new and reappointed members, and the election of the 2014 Council officers. Immediately after these issues have been addressed, the members will hear a report by the Northeast Fisheries Science Center (NEFSC) staff who will summarize the 59th Northeast Regional Stock Assessment Workshop/Stock Assessment Review Committee findings. The focus will be on Gulf of Maine haddock and Atlantic sea scallops. NEFSC staff will also present a summary of the Transboundary Resources Assessment Committee (TRAC) Report on the 2014 stock assessments for Eastern Georges Bank cod and haddock, and Georges Bank yellowtail flounder. The Council's Scientific and Statistical Committee (SSC) will provide its overfishing limit (OFL) and acceptable biological catch (ABC) recommendations for stocks of Gulf of Maine haddock and Gulf of Maine cod, Georges Bank yellowtail flounder, four small-mesh multispecies stocks (northern and southern whiting and northern and southern red hake), and Atlantic sea scallops. Discussions also will include committee comments on the draft ABC risk policy statement provided by the Risk Policy Working Group. After a lunch break, the Transboundary Management Guidance Committee (TMGC) will ask the Council to review and possibly approve its recommendations for fishing year 2015 quotas for Eastern Georges Bank cod and Eastern Georges Bank haddock and the Georges Bank stock of yellowtail flounder. Other TMGC-related issues also may be addressed. Prior to meeting adjournment for the day, the Council intends to discuss and possibly modify the management measures under consideration for inclusion in Framework Adjustment 26 to the Sea Scallop Fishery Management Plan (FMP), including a review of 2014 survey results, potential fishery specifications, and other measures.

Wednesday, October 1, 2014

In general, the Council will spend this day on Northeast Multispecies (Groundfish) FMP-related issues. There will be a report on the recent Gulf of Maine cod 2014 assessment update to be followed by a discussion of topics that will likely evolve from the assessment and peer review results. These could include but are not limited to a request for emergency action or other approaches that are brought forward during the discussion. The NEFMC will then address Framework Adjustment 53 to the FMP. The current timeline provides for approval of the range of alternatives for inclusion in this action. Measures under consideration may address Gulf of Maine cod, fishing year 2015-17 specifications for several groundfish stocks, windowpane flounder sub-annual catch limits and accountability measures, expansion of the Gulf of Maine cod spawning closure, a rollover provision that would apply to groundfish fishery specifications, and several other measures. Next, Amendment 18 to the FMP will be discussed. The Council could approve additional alternatives for inclusion in this action—accumulation limits and an inshore/offshore line to address the concentration of fishing effort in the inshore Gulf of Maine. Before the Council adjourns for the day, they will receive a summary report on the development of an Omnibus Industry-Funded Monitoring Amendment. Based on the information provided, the Council may consider and approve committee recommendations on alternatives for inclusion in the amendment.

Thursday, October 2, 2014

The Council will receive brief reports from the NEFMC Chairman and Executive Director (including information and possible action on bluefin tuna management), the NOAA Fisheries Regional Administrator, the Northeast Fisheries Science Center and Mid-Atlantic Fishery Management Council liaisons, NOAA General Counsel and NOAA Law Enforcement, and representatives of the Atlantic States Marine Fisheries Commission and U.S Coast Guard. The Ecosystem-based Fisheries Management (EBFM) Committee will provide a progress report on recent work, including a summary of perspectives of stakeholders, climate change vulnerability and governance, and additional issues. The Northeast Fisheries Science Center will report on the process used to develop stock assessment updates. This will be followed by an opportunity for the public to provide brief comments on items that are relevant to Council business but are otherwise not listed on the published agenda. The Council's Risk Policy Working Group will ask for approval of a Draft Risk Policy Statement it has developed and discuss steps about how it would apply across all Council-managed FMPs. The NEFMC Whiting Committee will ask for approval of a range of management adjustments to be included in a 2014 specifications document, pending a decision on the issues to be addressed in this action (whether to address overfishing of northern red hake). Depending on that outcome, the Council could initiate a framework adjustment in lieu of developing a specifications document at this meeting. Finally, the Council will have its first discussion on its 2015 draft management priorities. Members will address any additional outstanding business prior to meeting adjournment.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: September 11, 2014.
Tracey L. Thompson,
Acting Deputy Director, Office of Sustainable Fisheries, National Marine Fisheries Service.

[FR Doc. 2014-22018 Filed 9-15-14; 8:45 am]

BILLING CODE 3510-22-P